DEPARTMENT OF HEALTH AND HUMAN SERVICES

Administration for Children and Families

Submission for OMB Review; Application Requirements for the Low Income Home Energy Assistance Program (LIHEAP) Model Plan Application (OMB #0970-0075)

AGENCY: Office of Community Services, Administration for Children and Families, HHS.

ACTION: Request for public comment.

SUMMARY: The Office of Community Services (OCS), Administration for Children and Families (ACF), U.S. Department of Health and Human Services (HHS), is requesting a 3-year extension of the form OCS-0024: Low Income Home Energy Assistance Program (LIHEAP) Model Plan Application (OMB #0970-0075, expiration 09/30/2020). There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: States, including the District of Columbia, tribes, tribal organizations, and U.S. territories applying for LIHEAP block grant funds must, prior to receiving federal funds, submit an annual application (Model Plan, ACF-122) that meets the LIHEAP statutory and regulatory requirements. In addition to the Model Plan, grantees are also required to complete the Mandatory Grant Application, SF-424—Mandatory, which is included as the first section of the Model Plan.

The LIHEAP Model Plan is an electronic form and is submitted to OCS/ACF through the On-line Data Collection (OLDC) system within GrantSolutions, which is currently being used by all LIHEAP grantees to submit other required LIHEAP reporting forms. In order to reduce the reporting burden, all data entries from each grantee's prior year's submission of the Model Plan in OLDC are saved and re-populated into the form for the following fiscal year's application.

Respondents: States, the District of Columbia, U.S. territories, and tribal governments.

Annual Burden Estimates
Instrument | Total annual number of respondents | Total annual number of responses per respondent | Average burden hours per response | Total annual burden hours
LIHEAP Detailed Model Plan | 210 | 1 | .50 | 105

Estimated Total Annual Burden Hours: 105.

Authority: 42 U.S.C. 8621.

John M. Sweet Jr,
ACF/OPRE Certifying Officer.

[FR Doc. 2020-21267 Filed 9-25-20; 8:45 am]

BILLING CODE 4184-80-P